DEPARTMENT OF TRANSPORTATION

Federal Highway Administration

Environmental Impact Statement: Little Cottonwood Canyon, Salt Lake County, Utah

AGENCY: Federal Highway Administration (FHWA), DOT,

ACTION: Revised Notice of Intent to prepare an Environmental Impact Statement.

SUMMARY: FHWA on behalf of the Utah Department of Transportation (UDOT) published a Revised Notice of Intent (NOI) in the Federal Register on March 5, 2019. FHWA on behalf of UDOT is issuing this notice to advise the public that UDOT intends to revise the scope of the analysis of the Little Cottonwood Canyon project based on the anticipated 2019-2050 Regional Transportation Plan (RTP) prepared by the Wasatch Front Regional Council (WFRC) and information collected from the public and agencies during the scoping process and development of the project need.

FOR FURTHER INFORMATION CONTACT: Brandon Weston, Environmental Services Director, Environmental Services Division, UDOT 4501 South 2700 West, P.O. Box 141265, Salt Lake City, Utah 84114-1265 Telephone: (801) 965-4603, email: brandonweston@utah.gov. John Thomas, PE, Little Cottonwood Canyon Project Manager, UDOT Region 2, 2010 South 2760 West, Salt Lake City, UT 84104-4592; Telephone: (801) 550-2248, Email: johnthomas@utah.gov.

SUPPLEMENTARY INFORMATION: The environmental review, consultation, and other actions required by applicable federal environmental laws for this project are being or have been carried out by UDOT pursuant to 23 U.S.C. 327 and a Memorandum of Understanding dated January 17, 2017, and executed by FHWA and UDOT.

On March 5, 2019, at FR Vol. 84, No. 43, page 7967-8, FHWA on behalf of UDOT issued a Revised NOI for UDOT, as the lead agency under the National Environmental Policy Act (NEPA), to prepare an Environmental Impact Statement (EIS) for proposed improvements to SR-210, a two-lane roadway, in Little Cottonwood Canyon in Salt Lake County, Utah. The proposed project study area in the NOI extended from the intersection of SR-210 and SR-190/Fort Union Boulevard in Cottonwood Heights, Utah to the terminus of SR-210 in the town of Alta, Utah. The extent of the project study area has not changed with this revised NOI.

As part of the release of the March 5, 2019 Revised NOI and the EIS process, UDOT invited public and agency comments during a scoping period from March 5 to May 3, 2019, which included a public scoping meeting on April 9, 2019. Just prior to the initiation of this scoping period the WFRC released a Draft 2019—2050 RTP which included project R-S-53, widen Little Cottonwood Canyon Road (SR-210) from 2 to 3 lanes from Wasatch Boulevard to End of Canyon. This project was not included in the 2015 to 2040 RTP. The Draft 2019-2050 RTP also included Special Bus Service in Little Cottonwood Canyon. After reviewing the Draft 2019-2050 RTP, UDOT has revised the scope of the Little Cottonwood Canyon EIS. The revised scope includes the same elements from the March 5, 2019 Revised NOI plus the addition of the Little Cottonwood Canyon SR-210 RTP projects. The EIS scope will include the following: (1) Taking no action; (2) one or more alternatives involving multiple, combined actions, including:

• Transportation System Management (TSM);

• Enhancing safety and improving winter time mobility through avalanche mitigation;

• Enhancing safety, access, and mobility in the area through improved designated parking areas at existing U.S. Department of Agriculture (USDA) Forest Service trailheads;

• Roadway improvements to SR-210 on Wasatch Boulevard from SR-190/Fort Union Boulevard to North Little Cottonwood Canyon Road; and

• Additional roadway capacity and mobility improvements, including the option of adding a third lane on SR-210 in Little Cottonwood Canyon, with the evaluation of managed lane concepts.

and (3) other alternatives if identified during the EIS process. Alternatives that do not meet the project purpose and need or that are otherwise not reasonable will not be carried forward for detailed consideration.

To ensure the public was informed of the inclusion of the additional lane into EIS, UDOT sent out an email to interested stakeholders and agencies and held an agency scoping meeting on April 3, 2019 notifying them of the change in EIS scope. In addition, the inclusion of the additional lane into the EIS was included in project information provided at the April 9, 2019 public scoping meeting for comment. An initial scoping period was held from March 9-May 4, 2018 that included mobility improvements on SR-210 in Little Cottonwood Canyon. Comments received during the initial scoping period will be carried forward during this process.

The project may require FHWA to appropriate National Forest System lands and transfer such lands to UDOT for highway use, pursuant to authority under 23 U.S.C. 317. The project may also require approvals by the USDA Forest Service, the U.S. Army Corps of Engineers, and/or other agencies. The USDA Forest Service, the U.S. Army Corps of Engineers, the U.S. Environmental Protection Agency, Utah Transit Authority, and Salt Lake City Department of Public Utilities have accepted UDOT's invitation to be cooperating agencies and are expected to continue in this role with the revised scope.

Information describing the revised scope and soliciting comments have been sent to appropriate Federal, state, and local agencies as well as to Native American tribes and to private organizations and citizens who have previously expressed, or who are known to have, an interest in this proposal. Information may also be obtained through a public website maintained by UDOT at www.udot.utah.gov/littlecottonwoodeis.

During the NEPA process, other public meetings will be held as appropriate to allow the public, as well as Federal, state, and local agencies, and tribes, to provide comments on the purpose of and need for the project, potential alternatives, and social, economic, and environmental issues of concern.

In addition, a public hearing will be held following the release of the Draft EIS. Public notice advertisements and direct mailings will notify interested parties of the time and place of the public meetings and the public hearing. The Draft EIS will be available for public and agency review and comment prior to the public hearing.

To ensure that the full range of issues related to this proposed action is addressed and all significant issues are identified, comments and suggestions are invited from all interested parties. Written comments or questions concerning this proposed action and the EIS should be directed to UDOT representatives at the mail or email addresses provided above by June 14, 2019. For additional information please visit the project website at www.udot.utah.gov/littlecottonwoodeis. Information requests or comments can also be provided by email to littlecottonwoodeis@utah.gov. (Catalog of Federal and Domestic Assistance Program Number 20.205, Highway Research, Planning and Construction. The regulations implementing Executive Order 12372 regarding intergovernmental consultation on Federal programs and activities apply to this program.)

Dated: May 7, 2019.
Ivan Marrero,
Division Administrator, Federal Highway Administration, Salt Lake City, Utah.

[FR Doc. 2019-10009 Filed 5-14-19; 8:45 am]

BILLING CODE 4910-22-P